DEPARTMENT OF DEFENSE

Department of the Army, Corps of Engineers

Notice of Intent To Prepare an Environmental Impact Statement for the Peckman River Basin Flood Risk Management Study

AGENCY: U.S. Army Corps of Engineers, DOD.

ACTION: Notice of Intent.

SUMMARY: Pursuant to the requirements of section 102(2)(C) of the National Environmental Policy Act (NEPA), the U.S. Army Corps of Engineers, New York District (Corps) is preparing an integrated Feasibility Report/Environmental Impact Statement (EIS) laws for the proposed Peckman River Basin Flood Risk Management Feasibility Study. The study is assessing the feasibility of flood risk management alternatives to be implemented within the congressionally authorized study area with a specific emphasis on the Township of Little Falls and the Borough of Woodland Park in Passaic County, New Jersey.

ADDRESSES: Pertinent information about the study can be found at: http://www.nan.usace.army.mil/Missions/Civil-Works/Projects-in-New-Jersey/Peckman-River-Basin-Flood-Risk-Management-Feasibility-Study/.

Send written comments and suggestions concerning the scope of issues to be evaluated within the EIS to Kimberly Rightler, Project Biologist/NEPA Coordinator, U.S. Army Corps of Engineers, New York District, Planning Division, Environmental, 26 Federal Plaza, Room 2151, New York, NY 10279-0090; Phone: (917) 790-8722; email: kimberly.a.rightler@usace.army.mil.

FOR FURTHER INFORMATION CONTACT: Questions about the overall Peckman River Basin Flood Risk Management Feasibility Study should be directed to Robert Greco, Project Manager, U.S. Army Corps of Engineers, New York District, Programs and Project Management Division, Civil Works Programs Branch, 26 Federal Plaza, Room 2127, New York, NY 10279-0090; Phone: (917) 790-8394; email: robert.m.greco@usace.army.mil.

SUPPLEMENTARY INFORMATION:

1. Background

The U.S. Army Corps of Engineers (Corps), in partnership with the New Jersey Department of Environmental Protection (NJDEP) as the non-Federal sponsor is undertaking this study. Extensive development in the Peckman River Basin has resulted in flood damages with flooding occurring from intense thunderstorms and heavy rainfall. The District was authorized under U.S. House of Representatives Resolution Docket 2644, dated June 21, 2000 to identify recommendations in the interest of water resources development.

A Feasibility Cost Sharing Agreement (FCSA) was executed in 2002 with the NJDEP in 2002. A Notice of Intent (NOI) to prepare an Environmental Impact Statement (EIS) was published in the May 14, 2004 issue of the Federal Register (69 FR 26811). A NEPA scoping meeting held on February 11, 2004 in Little Falls, New Jersey at the initiation of the study. The alternative analysis was completed in 2014, and non-structural improvements located within the 10 year floodplain within Little Falls, N.J. with a bypass culvert designed to mitigate the flood risk from the Peckman River and floodwalls along Great Notch Brook in Woodland Park was identified as the Tentatively Selected National Economic Development Plan. The NJDEP requested a Locally Preferred Plan that consists of a levee/floodwall system in Little Falls along with the bypass culvert for the Peckman River and floodwalls along Great Notch Brook in Woodland Park. The LPP plan will be designed to protect Little Falls and Woodland Park from the 1% annual chance exceedance (100-yr) event from the Peckman River.

2. Project Area

The project area encompasses the portion of the Peckman River, Great Notch Brook and a portion of the Passaic River located in the Township of Little Falls and the Borough of Woodland Park in Passaic County, New Jersey.

3. Public Participation

The Corps and the NJDEP are currently anticipating hosting a NEPA Scoping Meeting in late November/early December 2017. Public notices announcing the meeting date, time, location and agenda will be published in the appropriate local newspapers, Little Falls Township Web page, Borough of Woodland Park Web page and on the Corps' New York District Web page (see STUDY WEBPAGE AND ADDRESSES) and will be distributed to the local stakeholders and known interested parties.

A scoping comment period of 30 days will be established from the scheduled date of the meeting to allow agencies, organizations and individuals to submit comments, questions and/or concerns regarding the Feasibility Study. Comments, concerns and information submitted to the Corps will be evaluated and considered during the development of the Draft EIS.

5. Lead and Cooperating Agencies

The U.S. Army Corps of Engineers is the lead federal agency for the preparation of the environmental impact statement (EIS) and meeting the requirements of the National Environmental Policy Act and the NEPA Implementing Regulations of the President's Council on Environmental Quality (40 CFR 1500-1508). Federal agencies interested in participating as a Cooperating Agency are requested to submit a letter of intent to Colonel Thomas D. Asbery, District Engineer (see ADDRESSES). The preparation of the EIS will be coordinated with New Jersey State and local municipalities with discretionary authority relative to the proposed actions. The Draft integrated Feasibility Report/EIS is currently scheduled for distribution to the public March 2018.

Dated: October 3, 2017.
Peter M. Weppler,
Chief, Environmental Analysis Branch, Planning Division.

[FR Doc. 2017-21933 Filed 10-12-17; 8:45 am]

BILLING CODE 3720-58-P